DEPARTMENT OF HEALTH AND HUMAN SERVICES

Centers for Disease Control and Prevention

Disease, Disability, and Injury Prevention and Control Special Emphasis Panel “Health Promotion and Disease Prevention Research Centers: Special Interest Project Competitive Supplements (Panel 8),” Request for Application Number (RFA) DP07-002

In accordance with section 10(a)(2) of the Federal Advisory Committee Act (Pub. L. 92-463), the Centers for Disease Control and Prevention (CDC) announces a meeting of the aforementioned Special Emphasis Panel.

Time and Date: 12 p.m.-4 p.m., June 12, 2007 (Closed).

Place: Teleconference.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of research grant applications in response to RFA DP07-002, “Health Promotion and Disease Prevention Research Centers: Special Interest Project Competitive Supplements (Panel 8).”

FOR FURTHER INFORMATION CONTACT: Maurine Goodman, M.A., M.P.H., Scientific Review Administrator, Centers for Disease Control and Prevention, 1600 Clifton Road, NE., MS D72, Atlanta, GA 30333, telephone 404-639-4737.

The Director, Management Analysis and Services Office, has been delegated the authority to sign Federal Register notices pertaining to announcements of meetings and other committee management activities, for both CDC and the Agency for Toxic Substances and Disease Registry.

Dated: April 10, 2007.
Elaine L. Baker,
Acting Director, Management Analysis and Services Office, Centers for Disease Control and Prevention.

[FR Doc. E7-7245 Filed 4-16-07; 8:45 am]

BILLING CODE 4163-18-P